DEPARTMENT OF HOMELAND SECURITY

U.S. Citizenship and Immigration Services

Agency Information Collection Activities; Comment Request

ACTION: Request OMB emergency approval; sworn statement of refugee applying for admission to the United States.

The Department of Homeland Security (Department) has submitted an emergency information collection request (ICR) utilizing emergency review procedures, to the Office of Management and Budget (OMB) for review and clearance in accordance with section 1320.13(a)(1)(ii) and (a)(2)(iii) of the Paperwork Reduction Act of 1995. The DHS has determined that it cannot reasonably comply with the normal clearance procedures under this part because normal clearance procedures are reasonably likely to prevent or disrupt the collection of information. Accordingly, DHS is requesting emergency review from OMB for this information collection. OMB approval has been requested by October 31, 2005. If granted, the emergency approval is only valid for 180 days.

This information collection was previously published by U.S. Customs and Border Protection (CBP) in the Federal Register on July 19, 2005 at 70 FR 41416, allowing for a 60-day public comment period ending September 19, 2005. No comments were received on this information collection. This information collection will be administratively transferred to U.S. Citizenship and Immigration Services.

This notice allows for an additional 30 days for public comment. Comments are encouraged and will be accepted until November 30, 2005. All comments and suggestions, or questions regarding additional information, to include obtaining a copy of the information collection instrument with instructions, should be directed to the Director, Regulatory Management Division, U.S. Citizenship and Immigration Services, Department of Homeland Security, 111 Massachusetts Avenue, NW., 3rd Floor, Washington, DC 20529, telephone 202-272-8377. Written comments and suggestions from the public and affected agencies concerning the proposed collection of information should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Extension of a currently approved collection.

(2) Title of the Form/Collection: Sworn Statement of Refugee Applying for Admission to the United States.

(3) Agency form number, if any, and the applicable component of the Department of Homeland Security sponsoring the collection: Form G-646. U.S. Citizenship and Immigration Services.

(4) Affected public who will be asked or required to respond, as well as a brief abstract: Primary: Individuals or households. This form provides the grounds for admissibility to the United States as they apply to refugees. The information collected allows the USCIS to make admissibility determinations for refugees.

(5) An estimate of the total number of respondents and the amount of time estimated for an average respondent to respond: 75,000 responses at 20 minutes (.0333 hours) per response.

(6) An estimate of the total public burden (in hours) associated with the collection: 24,975 annual burden hours.

Dated: October 27, 2005.
Stephen Tarragon,
Deputy Director, Regulatory Management Division, U.S. Citizenship and Immigration Services.

[FR Doc. 05-21715 Filed 10-28-05; 8:45 am]

BILLING CODE 4410-10-P